DEPARTMENT OF THE INTERIOR

Bureau of Indian Affairs

[245A2100DD/AAKC001030/A0A501010.999900]

Proclaiming Certain Lands as Reservation for the Pascua Yaqui Tribe

AGENCY: Bureau of Indian Affairs, Interior.

ACTION: Notice of reservation proclamation.

SUMMARY: This notice informs the public that the Assistant Secretary—Indian Affairs proclaimed approximately 1483.03 acres, more or less, as an addition to the reservation of Pascua Yaqui Tribe.

DATES: This proclamation was made on January 23, 2024.

FOR FURTHER INFORMATION CONTACT: Ms. Carla Clark, Bureau of Indian Affairs, Division of Real Estate Services, 1001 Indian School Road NW, Box #44, Albuquerque, New Mexico 87104, carla.clark@bia.gov, (720) 484-3233.

SUPPLEMENTARY INFORMATION: This notice is published in the exercise of authority delegated by the Secretary of the Interior to the Assistant Secretary—Indian Affairs by part 209 of the Departmental Manual.

A proclamation is issued according to the Act of June 18, 1934 (48 Stat. 984; 25 U.S.C. 5110) for the lands described below. The lands are proclaimed to be the Pascua Yaqui Tribe Reservation for Pascua Yaqui Tribe in Pima County, Arizona.

Pascua Yaqui Tribe of Arizona, 7 Parcels, Gila and Salt River Base and Meridian Pima County, Arizona, Legal Descriptions Containing 1483.03 Acres, More or Less

665 T 2

Parcel A

Portion of the South Half of Section 24, Township 15 South, Range 12 East, Gila and Salt River Base and Meridian, Pima County, Arizona, described as follows: The Northeast Quarter of the Southwest Quarter; Except the Southerly 4.19 feet thereof; Excepting therefrom, all coal, oil, gas and other mineral deposits as reserved in the Patent recorded in Docket 1224, Page 365.

Parcel B

Portion of the South Half of Section 24, Township 15 South, Range 12 East, Gila and Salt River Base and Meridian, Pima County, Arizona, described as follows: The Northwest Quarter of the Southeast Quarter; Except the Southerly 3.52 feet; Excepting therefrom, all coal, oil, gas and other mineral deposits as reserved in the Patent recorded in Docket 1224, Page 365.

Parcel C

All of Government Lot Three (3), in Section 24, Township 15 South, Range 12 East, Gila and Salt River Base and Meridian, Pima County, Arizona.

665 T 3

Lots 1 through 8, the East Half of the Northeast Quarter, the Southwest Quarter of the Northeast Quarter, the Northeast Quarter of the Southeast Quarter, the East Half of the Northwest Quarter of the Southeast Quarter, the Southwest Quarter of the Northwest Quarter of the Southeast Quarter, the North Half of the Southeast Quarter of the Southeast Quarter, and the Southeast Quarter of the Southeast Quarter of the Southeast Quarter of Section 14, Township 15 South, Range 12 East, Gila and Salt River Base and Meridian, Pima County Arizona.

665 T 4

Parcel A

The West Half of the Southeast Quarter and the Southwest Quarter of Section 24, Township 15 South, Range 12 East, Gila and Salt River Base and Meridian, Pima County, Arizona.

Excepting therefrom the following parcels: The Northeast Quarter of the Southwest Quarter of said Section 24, except the Southerly 4.19 feet thereof; and the Northwest Quarter of the Southeast Quarter of said Section 24, except the Southerly 3.52 feet thereof.

Parcel B

The South Half of the Southeast Quarter of Section 23, Township 15 South, Range 12 East, Gila and Salt River Base and Meridian, Pima County, Arizona.

665 T 5

Parcel A

Lots 2 and 4, West Half of Southeast Quarter, Section 13, Township 15 South, Range 12 East, Gila and Salt River Base and Meridian, Pima County, Arizona.

Parcel B

The Northwest Quarter of the Northwest Quarter, the North half of the Northeast Quarter of the Northwest Quarter, and the Southwest Quarter of the Northeast Quarter of the Northwest Quarter of Section 24, Township 15 South, Range 12 East of the Gila and Salt River Base and Meridian, Pima County, Arizona.

Parcel C

Lots 2 and 45 through 76, Section 19, Township 15 South, Range 13 East, Gila and Salt River Base and Meridian, Pima County, Arizona.

665 T 6

Parcel A

SW ¼ of the SE ¼ of the SE ¼ of Section 14, Township 15 South, Range 12 East, Gila and Salt River Base and Meridian, Pima County, Arizona.

Parcel B:

NW ¼ of the NW ¼ of the SE ¼ of Section 14, Township 15 South, Range 12 East, Gila and Salt River Base and Meridian, Pima County, Arizona.

665 T 7

Parcel A

Blocks 20, 22, 23, 24, 26, 27, 28, 29 and 30, Master Block Plat of Star Valley, of Pima County, Arizona, according to the plat of record in the office of the County Recorder in Book 56 of Maps and Plats, page 55.

Parcel B

West Half of the Northeast Quarter of the Northwest Quarter and the Northwest Quarter of the Northwest Quarter of Sections 13, Township 15 South Range 12 East, Gila and Salt River Base and Meridian, Pima County, Arizona.

665 T 8

Lot 1 of Section 19, Township 15 South, Range 13 East, Gila and Salt River Base and Meridian, Pima County, Arizona.

The above-described lands contain a total of 1483.03 acres, more or less, which are subject to all valid rights, reservations, rights-of-way, and easements of record.

This proclamation does not affect title to the lands described above, nor does it affect any valid existing easements for public roads, highways, public utilities, railroads and pipelines, or any other valid easements or rights-of-way or reservations of record.

Bryan Newland,
Assistant Secretary—Indian Affairs.

[FR Doc. 2024-01703 Filed 1-26-24; 8:45 am]

BILLING CODE 4337-15-P